DEPARTMENT OF HEALTH AND HUMAN SERVICES

Health Resources and Services Administration

Agency Information Collection Activities: Proposed Collection: Public Comment Request; Information Collection Request Title: Advanced Nursing Education Program Specific Form OMB No. 0915-0375—Revision

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than February 26, 2024.

ADDRESSES: Submit your comments to paperwork@hrsa.gov or mail the HRSA Information Collection Clearance Officer, Room 14N39, 5600 Fishers Lane, Rockville, Maryland 20857.

FOR FURTHER INFORMATION CONTACT: To request more information on the proposed project or to obtain a copy of the data collection plans and draft instruments, email paperwork@hrsa.gov or call Joella Roland, the HRSA Information Collection Clearance Officer, at (301) 443-3983.

SUPPLEMENTARY INFORMATION: When submitting comments or requesting information, please include the ICR title for reference.

Information Collection Request Title: Advanced Nursing Education (ANE) Program Specific Form OMB No. 0915-0375—Revision

Abstract: HRSA provides advanced nursing education grants to educational institutions to increase the supply, distribution, quality of, and access to advanced education nurses through the ANE Programs. The ANE Programs are authorized by section 811 of the Public Health Service Act (42 U.S.C. 296j), as amended. This clearance request is for continued approval of the information collection OMB No. 0915-0375 with revisions. This revision request seeks to add the Advanced Nursing Education-Nurse Practitioner Residency and Fellowship (ANE-NPRF) Program and the Maternity Care Nursing Workforce Expansion Program to the ANE Program Specific Form, and to remove programs that have closed, which include the Advanced Nursing Education-Nurse Practitioner Residency (ANE-NPR) Program and the Advanced Nursing Education-Nurse Practitioner Residency Integration Program. The activities previously supported under the ANE-NPR and the Advanced Nursing Education-Nurse Practitioner Residency Integration Program are now supported under the ANE-NPRF Program.

Need and Proposed Use of the Information: Section 811 of the Public Health Service Act provides the Secretary of Health and Human Services with the authority to award grants to and enter into contracts with eligible entities to meet the costs of: (1) projects that support the enhancement of advanced nursing education and practice; and (2) traineeships for individuals in advanced nursing education programs. Under this section, HRSA makes awards to entities who train and support nurses characterized as “advanced education nurses.” In awarding such grants, funding preference is given to applicants with projects that will substantially benefit rural or underserved populations or help meet public health nursing needs in state or local health departments; special consideration is given to an eligible entity that agrees to extend the award to train advanced education nurses who will practice in designated Health Professional Shortage Areas.

The ANE Program Specific Form allows HRSA to effectively target funding and measure the impact of the ANE Programs in meeting the legislative intent and program goals of supporting the enhancement of advanced nursing education and creating opportunities for individuals in advanced nursing education programs to increase the number of advanced practice nurses, especially in rural and underserved areas. Additionally, collecting this data assists HRSA in carrying out the most impactful program and ensuring resources are used responsibly. The proposed updates to this information collection are to accurately list the current ANE Programs.

Likely Respondents: Likely respondents will be current ANE Programs awardees and new applicants to ANE Programs.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name (includes the ANE program specific tables and attachments) | Number of respondents | Number of responses per respondent | Total responses | Average burden per response (in hours) | Total burden hours
Advanced Nursing Education Workforce | 156 | 1 | 156 | 7 | 1,092
Nurse Anesthetist Traineeship | 64 | 1 | 64 | 7 | 448
Advanced Nursing Education Sexual Assault Nurse Examiners | 54 | 1 | 54 | 7 | 378
ANE-NPRF | 64 | 1 | 64 | 7 | 448
Maternity Care Nursing Workforce Expansion | 10 | 1 | 10 | 7 | 70
Total | 348 |  | 348 |  | 2,436

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2023-28664 Filed 12-27-23; 8:45 am]

BILLING CODE 4165-15-P